DEPARTMENT OF ENERGY

Federal Energy Regulatory Commission

Notice of Effectiveness of Exempt Wholesale Generator and Foreign Utility Company Status

| Docket Nos.
MS Sunflower Project Company, LLC | EG22-61-000
LeConte Energy Storage, LLC | EG22-62-000
Emerald Grove Solar, LLC | EG22-63-000
Brightside Solar, LLC | EG22-64-000
High Point Solar LLC | EG22-65-000
Sunlight Storage, LLC | EG22-66-000
Kearny Mesa Storage, LLC | EG22-68-000
EnerSmart Murray BESS LLC | EG22-69-000
Ledyard Windpower, LLC | EG22-70-000
Powell River Energy Inc | EG22-71-000
Byrd Ranch Storage LLC | EG22-72-000
Graphite Solar 1, LLC | EG22-73-000
Magic Valley Energy Center, LLC | EG22-74-000
Enel Green Power Roseland Solar, LLC | EG22-75-000
25 Mile Creek Windfarm LLC | EG22-76-000
Seven Cowboy Wind Project, LLC | EG22-77-000
Laurel Mountain BESS, LLC | EG22-78-000
Chesapeake Beach BESS LLC | EG22-79-000
Longbow Solar, LLC | EG22-80-000
Conrad (Minehead) Ltd., et al | FC22-1-000

Take notice that during the month of May 2022, the status of the above-captioned entities as Exempt Wholesale Generators or Foreign Utility Companies became effective by operation of the Commission's regulations. 18 CFR 366.7(a) (2021).

Dated: June 17, 2022.
Kimberly D. Bose,
Secretary.

[FR Doc. 2022-13518 Filed 6-23-22; 8:45 am]

BILLING CODE 6717-01-P